DEPARTMENT OF THE INTERIOR

Fish and Wildlife Service

50 CFR Part 17

[Docket No. FWS-R6-ES-2012-0108; FWS-R6-ES-2011-0111; 4500030113; 4500030114]

RIN 1018-AZ20; RIN 1018-AX71

Endangered and Threatened Wildlife and Plants; Endangered Status and Critical Habitat Designation for Gunnison Sage-Grouse

AGENCY: Fish and Wildlife Service, Interior.

ACTION: Proposed rule; extension of comment period.

SUMMARY: We, the U.S. Fish and Wildlife Service (Service), are extending the public comment period on two proposed rules: to list the Gunnison sage-grouse (Centrocercus minimus) as endangered and to propose critical habitat for the Gunnison sage-grouse under the Endangered Species Act of 1973, as amended (Act). Both proposed rules were published in the Federal Register on January 11, 2013. We are extending the comment period to allow the public an adequate opportunity to review and comment on the proposed rules. Comments already submitted need not be resubmitted, as they will be fully considered in preparation of the final rules, which we intend to issue by the end of Fiscal Year 2013 (September 30, 2013) as required by a court-approved settlement agreement.

DATES: The public comment period on the proposed rule to list the Gunnison sage-grouse as endangered and the proposed rule to designate critical habitat published in the Federal Register on January 11, 2013 (78 FR 2486 and 2540) is extended to April 2, 2013. Comments submitted electronically using the Federal eRulemaking Portal (see ADDRESSES section, below) must be received by 11:59 p.m. Eastern Time on the closing date.

ADDRESSES: You may submit comments by one of the following methods:

(1) Electronically: Go to the Federal eRulemaking Portal: http://www.regulations.gov. In the Search box, enter the appropriate Docket No.: FWS-R6-ES-2012-0108 for the proposed endangered status for Gunnison sage-grouse; or FWS-R6-ES-2011-0111 for the proposed designation of critical habitat for Gunnison sage-grouse. Then, in the Search panel on the left side of the screen, under the Document Type heading, check on the Proposed Rules link to locate the proposed rule. You may submit a comment by clicking on “Comment Now!”

(2) By hard copy: For the proposed endangered status for Gunnison sage-grouse, submit by U.S. mail or hand-delivery to: Public Comments Processing, Attn: FWS-R6-ES-2012-0108; Division of Policy and Directives Management; U.S. Fish and Wildlife Service; 4401 N. Fairfax Drive, MS 2042-PDM; Arlington, VA 22203.

For the proposed designation of critical habitat for Gunnison sage-grouse, submit by U.S. mail or hand-delivery to: Public Comments Processing, Attn: FWS-R6-ES-2011-0111; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Information Requested section below for more details).

FOR FURTHER INFORMATION CONTACT: Patty Gelatt, Western Colorado Supervisor, U.S. Fish and Wildlife Service, Western Colorado Field Office, 764 Horizon Drive, Building B, Grand Junction, CO 81506-3946; telephone 970-243-2778; facsimile 970-245-6933. If you use a telecommunications device for the deaf (TDD), call the Federal Information Relay Service (FIRS) at 800-877-8339.

SUPPLEMENTARY INFORMATION:

Background

On January 11, 2013, we published in the Federal Register a proposed rule to list the Gunnison sage-grouse as endangered (78 FR 2486), and a proposed rule to designate approximately 1.7 million acres of critical habitat for Gunnison sage-grouse (78 FR 2540) under the Endangered Species Act of 1973, as amended. Each proposed rule has a 60-day comment period, ending March 12, 2013. We received several requests from the public to extend the comment period for these proposals. To ensure the public has an adequate opportunity to review and comment on these proposed rules, we are extending the comment period to April 2, 2013 (see DATES). We intend to issue final determinations on each of these rules by September 30, 2013.

Information Requested

We will accept written comments and information during this extended comment period and will consider information and recommendations from all interested parties. If you previously submitted comments or information on the proposed rules, please do not resubmit them. We have incorporated them into the public record, and we will fully consider them in the preparation of our final determinations. We intend that any final action resulting from these proposals be based on the best scientific and commercial data available and be as accurate and as effective as possible.

We request comments or information from the public, other concerned governmental agencies, Native American tribes, the scientific community, industry, or any other interested parties concerning these proposed rules. We particularly seek comments concerning:

(1) The species' biology, range, and population trends, including:

(a) Habitat requirements for feeding, breeding, and sheltering;

(b) Genetics and taxonomy;

(c) Historical and current range, including distribution patterns;

(d) Historical and current population levels, and current and projected trends; and

(e) Past and ongoing conservation measures for the species, its habitat, or both.

(2) The factors that are the basis for making a listing determination for a species under section 4(a) of the Act (16 U.S.C. 1531 et seq.), which are:

(a) The present or threatened destruction, modification, or curtailment of its habitat or range;

(b) Overutilization for commercial, recreational, scientific, or educational purposes;

(c) Disease or predation;

(d) The inadequacy of existing regulatory mechanisms; or

(e) Other natural or manmade factors affecting its continued existence.

(3) Biological, commercial trade, or other relevant data concerning any threats (or lack thereof) to this species and existing regulations that may be addressing those threats.

(4) Additional information concerning the historical and current status, range, distribution, and population size of this species, including the locations of any additional populations of this species.

(5) Any information on the biological or ecological requirements of the species and ongoing conservation measures for the species and its habitat.

(6) The reasons why we should or should not designate habitat as “critical habitat” under section 4 of the Act, including whether there are threats to the species from human activity, the degree of which can be expected to increase due to the designation, and whether that increase in threats outweighs the benefit of designation such that the designation of critical habitat is not prudent.

(7) Specific information on:

(a) The amount and distribution of Gunnison sage-grouse habitat;

(b) What may constitute “physical or biological features essential to the conservation of the species,” within the geographical range currently occupied by the species;

(c) Where these features are currently found;

(d) Whether any of these features may require special management considerations or protection;

(e) What areas, that were occupied at the time of listing (or are currently occupied) and that contain features essential to the conservation of the species, should be included in the designation and why; and

(f) What areas not occupied at the time of listing (or the present time) are essential for the conservation of the species and why.

(8) Land use designations and current or planned activities in the areas occupied by the species or proposed to be designated as critical habitat, and possible impacts of these activities on this species and proposed critical habitat.

(9) Information on the projected and reasonably likely impacts of climate change on the Gunnison sage-grouse and proposed critical habitat.

(10) With respect to the proposed designation of critical habitat, any foreseeable economic, national security, or other relevant impacts that may result from designating any areas that may be included in the final designation. We are particularly interested in any impacts on small entities, and the benefits of including or excluding areas from the proposed designation that are subject to these impacts.

(11) Whether any specific areas we are proposing for critical habitat designation should be considered for exclusion under section 4(b)(2) of the Act, and particularly whether the benefits of potentially excluding any specific area outweigh the benefits of including that area as set out in section 4(b)(2) of the Act. For instance, should the proposed designation exclude properties currently enrolled in the Gunnison sage-grouse Candidate Conservation Agreement with Assurances, properties under conservation easement, or properties held by conservation organizations, and why?

(12) Whether our approach to designating critical habitat could be improved or modified in any way to provide for greater public participation and understanding, or to assist us in accommodating public concerns and comments.

(13) The likelihood of adverse social reactions to the designation of critical habitat and how the consequences of such reactions, if likely to occur, would relate to the conservation and regulatory benefits of the proposed critical habitat designation.

Please include sufficient information with your submission (such as scientific journal articles or other publications) to allow us to verify any scientific or commercial information you include. Please note that submissions merely stating support for or opposition to the action under consideration without providing supporting information, although noted, will not be considered in making a determination, as section 4(b)(1)(A) of the Act directs that determinations as to whether any species is a threatened or endangered species must be made “solely on the basis of the best scientific and commercial data available.”

You may submit your comments and materials concerning this proposed rule by one of the methods listed in the ADDRESSES section above. We request that you send comments only by the methods described in the ADDRESSES section.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov, or by appointment, during normal business hours, at the U.S. Fish and Wildlife Service, Western Colorado Field Office (see FOR FURTHER INFORMATION CONTACT). You may obtain copies of the proposed rules on the Internet at http://www.regulations.gov at Docket No. FWS-R6-ES-2012-0108 for the proposed endangered status for Gunnison sage-grouse; or Docket No. FWS-R6-ES-2011-0111 for the proposed designation of critical habitat for Gunnison sage-grouse. Copies of the proposed rules are also available at http://www.fws.gov/mountain-prairie/species/birds/gunnisonsagegrouse/.

Authority: The authority for this action is the Endangered Species Act of 1973, as amended (16 U.S.C. 1531 et seq.).

Dated: March 7, 2013.
Rowan W. Gould,
Deputy Director, U.S. Fish and Wildlife Service.

[FR Doc. 2013-05855 Filed 3-12-13; 8:45 am]

BILLING CODE 4310-55-P